DEPARTMENT OF HOMELAND SECURITY

Bureau of Immigration and Customs Enforcement

Agency Information Collection Activities: Proposed Collection; Comment Request

ACTION: 30-Day notice of information collection under review: biographical information/program eligibility questionnaire and practitioner fraud pilot program initial interview form, forms I-908 and I-909.

The Department of Homeland Security, Bureau of Immigration and Customs Enforcement (ICE) has submitted the following information collection request to the Office of Management and Budget (OMB) for review and clearance in accordance with the Paperwork Reduction Act of 1995. The information collection was previously published in the Federal Register on November 29, 2002, at 67 FR 71204. The notice allowed for a 60-day public review and comment period. No public comment was received by the agency.

The purpose of this notice is to allow an additional 30 days for public comments. Comments are encouraged and will be accepted until May 1, 2003. This process is conducted in accordance with 5 CFR 1320.10.

Written comments and/or suggestions regarding the items contained in this notice, especially regarding the estimated public burden and associated response time, should be directed to the Office of Management and Budget, Office of Information and Regulatory Affairs, Attention: Department of Homeland Security Desk Officer, 725—17th Street, NW., Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

Title of the Form/Collection: Biographical Information/Program Eligibility Questionnaire and Practitioner Fraud Pilot Program Initial Interview Form.

(3) Agency form number, if any, and the applicable component of the Department of Homeland Security sponsoring the collection: Forms I-908 and I-909. Bureau of Immigration and Customs Enforcement.

(4) Affected public who will be asked or required to respond, as well as a brief abstract: Primary: Individuals or households. This information collection will be used by the agency to identify unscrupulous immigration practitioners who intentionally defraud undocumented alien victims.

(5) An estimate of the total number of respondents and the amount of time estimated for an average respondent to respond: 5,000 responses at 1 hour per response.

(6) An estimate of the total public burden (in hours) associated with the collection: 5,000 annual burden hours.

If you have additional comments, suggestions, or need a copy of the proposed information collection instrument with instructions, or additional information, please contact Richard A. Sloan 202-514-3291, Director, Regulations and Forms Services Division, U.S. Department of Homeland Security, Room 4034, 425 I Street, NW., Washington, DC 20536. Additionally, comments and/or suggestions regarding the item(s) contained in this notice, especially regarding the estimated public burden and associated response time may also be directed to Mr. Richard A. Sloan.

Dated: March 26, 2003.
Richard A. Sloan,
Department Clearance Officer, United States Department of Justice, Immigration and Naturalization Service.

[FR Doc. 03-7721 Filed 3-31-03; 8:45 am]

BILLING CODE 4410-10-M